DEPARTMENT OF DEFENSE

Defense Acquisition Regulations System

48 CFR Parts 209 and 252

RIN 0750-AG78

Defense Federal Acquisition Regulation Supplement; Ownership or Control by a Foreign Government (DFARS Case 2010-D010)

AGENCY: Defense Acquisition Regulations System, Department of Defense (DoD).

ACTION: Final rule.

SUMMARY: DoD is adopting as a final rule, without change, an interim rule that implemented revisions to DoD Directive-Type Memorandum (DTM) 09-019, “Policy Guidance for Foreign Ownership, Control, or Influence (FOCI).” This DTM revises the description of communications security material that is “proscribed information.”

DATES: Effective date: April 19, 2011.

FOR FURTHER INFORMATION CONTACT: Mr. Julian Thrash, Telephone 703-602-0310.

SUPPLEMENTARY INFORMATION:

I. Background

DoD published an interim rule in the Federal Register at 75 FR 35684 on June 23, 2010, to implement changes required by Directive-Type Memorandum (DTM) 09-019, “Policy Guidance for Foreign Ownership, Control, or Influence (FOCI),” which required conforming changes to the DFARS. The public comment period closed August 23, 2010, and no public comments were received. DoD has therefore adopted the interim rule as a final rule without change.

II. Executive Order 12866 and Executive Order 13563

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This is not a significant regulatory action and, therefore, was not subject to review under Section 6(b) of Executive Order 12866, Regulatory Planning and Review, dated September 30, 1993. This rule is not a major rule under 5 U.S.C. 804.

III. Regulatory Flexibility Act

DoD certifies that this final rule will not have a significant economic impact on a substantial number of entities within the meaning of the Regulatory Flexibility Act, 5 U.S.C. 601 et seq., because it only impacts companies that are owned or controlled by a foreign government, and most small entities, as defined in the Regulatory Flexibility Act, are not owned or controlled by a foreign government.

DoD published an interim rule in the Federal Register at 75 FR 35684 on June 23, 2010, to which there were no public comments.

IV. Paperwork Reduction Act

The rule does not impose any information collection requirements that require the approval of the Office of Management and Budget under the Paperwork Reduction Act (44 U.S.C. chapter 35).

List of Subjects in 48 CFR Parts 209 and 252

Government procurement.

Mary Overstreet,
Editor, Defense Acquisition Regulations System.

Interim Rule Adopted as Final Without Change

Accordingly, the interim rule amending 48 CRF parts 209 and 252 published at 75 FR 35684 on June 23, 2010, is adopted as final without change.

[FR Doc. 2011-8953 Filed 4-18-11; 8:45 am]

BILLING CODE 5001-08-P